DEPARTMENT OF DEFENSE

Office of the Secretary

Notice of Intent To Grant a Partially Exclusive License; I-Blades, Inc.

AGENCY: National Security Agency (NSA), Department of Defense (DoD).

ACTION: Notice of intent.

SUMMARY: The NSA hereby gives notice of its intent to grant I-Blades, Inc. a revocable, non-assignable, partially exclusive, license to practice the following Government-Owned invention as described and claimed in United States Patent Number/United States Patent Application Number (USPN), 10,866,622 B1, Device for Securing a Charge Operation of an End-User Device.

DATES: Anyone wishing to object to the grant of this license has until October 15, 2025 to file written objections including evidence and argument that establish that the grant of the license would not be consistent with the requirements of 35 United States Code (U.S.C.) 209 and 37 CFR 404.7.

ADDRESSES: Written objections are to be filed with the National Security Agency Technology Transfer Program, 9800 Savage Road, Suite 6843, Fort George G. Meade, MD 20755-6843.

FOR FURTHER INFORMATION CONTACT: Karen D. Presley, Director, Office of Research and Technology Applications, 9800 Savage Road, Suite 6843, Fort George G. Meade, MD 20755-6843, telephone (443) 634-3519.

SUPPLEMENTARY INFORMATION: The prospective partially exclusive license will comply with the terms and conditions of 35 U.S.C. 209 and 37 CFR 404.7. The patent rights in these inventions have been assigned to the United States Government as represented by the NSA.

Dated: September 25, 2025.
Aaron T. Siegel,
Alternate OSD Federal Register Liaison Officer, Department of Defense.

[FR Doc. 2025-18889 Filed 9-29-25; 8:45 am]

BILLING CODE 6001-FR-P